DEPARTMENT OF TRANSPORTATION

Federal Aviation Administration

14 CFR Part 39

[Docket No. FAA-2021-0572; Project Identifier MCAI-2021-00391-R]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for all Leonardo S.p.a. Model A119 and AW119 MKII helicopters. This proposed AD was prompted by reports of abnormal play on the collective torque tube on two Model AW119 MKII helicopters. This proposed AD would require repetitive inspections of affected torque tube assemblies for any deficiency and corrective action if necessary; and the replacement of any affected part with a serviceable part, which is terminating action for the repetitive inspections, as specified in a European Union Aviation Safety Agency (EASA) AD, which is proposed for incorporation by reference (IBR). The FAA is proposing this AD to address the unsafe condition on these products.

DATES: The FAA must receive comments on this proposed AD by September 3, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this AD, contact EASA, Konrad-Adenauer-Ufer 3, 50668 Cologne, Germany; telephone +49 221 8999 000; email ADs@easa.europa.eu; internet www.easa.europa.eu. You may find this IBR material on the EASA website at https://ad.easa.europa.eu. You may view the EASA material at the FAA, Office of the Regional Counsel, Southwest Region, 10101 Hillwood Pkwy., Room 6N-321, Fort Worth, TX 76177. For information on the availability of the EASA material at the FAA, call (817) 222-5110. EASA material is also available at https://www.regulations.gov by searching for and locating Docket No. FAA-2021-0572.

Examining the AD Docket

You may examine the AD docket at https://www.regulations.gov by searching for and locating Docket No. FAA-2021-0572; or in person at Docket Operations between 9 a.m. and 5 p.m., Monday through Friday, except Federal holidays. The AD docket contains this NPRM, the EASA AD, any comments received, and other information. The street address for Docket Operations is listed above.

FOR FURTHER INFORMATION CONTACT: Andrea Jimenez, Aerospace Engineer, COS Program Management Section, Operational Safety Branch, Compliance & Airworthiness Division, FAA, 1600 Stewart Ave., Mail Stop: Room 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2021-0572; Project Identifier MCAI-2021-00391-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Mail Stop: Room 410, Westbury, NY 11590; telephone (516) 228-7330; email andrea.jimenez@faa.gov. Any commentary that the FAA receives that is not specifically designated as CBI will be placed in the public docket for this rulemaking.

Background

EASA, which is the Technical Agent for the Member States of the European Union, has issued EASA AD 2021-0096, dated March 31, 2021 (EASA AD 2021-0096), to correct an unsafe condition for Leonardo S.p.A. Helicopters, formerly Finmeccanica S.p.A., AgustaWestland S.p.A., Agusta S.p.A.; and AgustaWestland Philadelphia Corporation, formerly Agusta Aerospace Corporation, Model A119 and AW119MKII helicopters, all serial numbers.

This proposed AD was prompted by reports of abnormal play on the collective torque tube on two Model AW119 MKII helicopters. Investigations revealed that these events were due to an erroneous manufacturing process, affecting certain collective torque tube assemblies. The affected batch numbers were identified. Leonardo S.p.a. Model A119 helicopters are similar in design and may be subject to the same unsafe condition revealed on the Model AW119 MKII helicopters. The FAA is proposing this AD to address abnormal play on the collective torque tube, which could result in reduced control of the helicopter, resulting in a forced landing and consequent damage to the helicopter and injury to occupants. See EASA AD 2021-0096 for additional background information.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Related Service Information Under 1 CFR Part 51

EASA AD 2021-0096 requires repetitive inspections of the affected torque tube assemblies for any deficiency (i.e., any play) by marking the torque tube assembly and the collar and applying specific loads to determine if there is any play; and replacement of any affected part that has any play with a serviceable part. EASA AD 2021-0096 also requires the eventual replacement of any affected part with a serviceable part, and specifies that replacement of an affected part on a helicopter constitutes terminating action for the repetitive inspections for that helicopter.

This material is reasonably available because the interested parties have access to it through their normal course of business or by the means identified in the ADDRESSES section.

Proposed AD Requirements in This NPRM

This proposed AD would require accomplishing the actions specified in EASA AD 2021-0096, described previously, as incorporated by reference, except for any differences identified as exceptions in the regulatory text of this proposed AD and except as discussed under “Differences Between this Proposed AD and the EASA AD.”

Explanation of Required Compliance Information

In the FAA's ongoing efforts to improve the efficiency of the AD process, the FAA developed a process to use certain civil aviation authority (CAA) ADs as the primary source of information for compliance with requirements for corresponding FAA ADs. The FAA has been coordinating this process with manufacturers and CAAs. As a result, EASA AD 2021-0096 will be incorporated by reference in the FAA final rule. This proposed AD would, therefore, require compliance EASA AD 2021-0096 in its entirety, through that incorporation, except for any differences identified as exceptions in the regulatory text of this proposed AD. Using common terms that are the same as the heading of a particular section in EASA AD 2021-0096 does not mean that operators need comply only with that section. For example, where the AD requirement refers to “all required actions and compliance times,” compliance with this AD requirement is not limited to the section titled “Required Action(s) and Compliance Time(s)” in EASA AD 2021-0096. Service information specified in EASA AD 2021-0096 that is required for compliance with it will be available at https://www.regulations.gov by searching for and locating Docket No. FAA-2021-0572 after the FAA final rule is published.

Differences Between This Proposed AD and the EASA AD

EASA AD 2021-0096 supersedes EASA AD 2019-0057, dated March 20, 2019 (EASA AD 2019-0057). The Group 1 helicopters identified in both EASA AD 2021-0096 and EASA AD 2019-0057 are helicopters with collective stick torque tube assemblies having part number (P/N) 109-0011-03-105 and batch number 823207 or earlier. Paragraph (1) of EASA AD 2021-0096 addresses Group 1 helicopters that have incorporated the actions required by paragraph (2) of EASA AD 2019-0057. The FAA did not issue an AD that corresponds to EASA AD 2019-0057, therefore, this proposed AD would require, for Group 1 helicopters, an initial inspection of the torque tube assembly within 50 hours time-in-service (TIS) after the effective date of the FAA AD and repetitive inspections thereafter at intervals not to exceed 100 hours TIS.

In addition, where paragraph (5) of EASA AD 2021-0096 specifies, for Group 1 helicopters, replacement of an affected part with a serviceable part “within 36 months after April 3, 2019 [the effective date of EASA AD 2019-0057]”, for this proposed AD, the compliance time would be within 24 months after the effective date of the FAA AD.

Costs of Compliance

The FAA estimates that this proposed AD affects 136 helicopters of U.S. registry. The FAA estimates the following costs to comply with this proposed AD:

Estimated Costs
Action | Labor cost | Parts cost | Cost per product | Cost on U.S. operators
Inspection | 2 work-hours × $85 per hour = $170 per inspection cycle. | $0 | $170 per inspection cycle | $23,120 per inspection cycle.
Replacement | 16 work-hours × $85 per hour = $1,360 | 9,928 | $11,288 | $1,535,168

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Leonardo S.p.a.: Docket No. FAA-2021-0572; Project Identifier MCAI-2021-00391-R.

(a) Comments Due Date

The FAA must receive comments on this airworthiness directive (AD) by September 3, 2021.

(b) Affected ADs

None.

(c) Applicability

This AD applies to Leonardo S.p.a. Model A119 and AW119 MKII helicopters, certificated in any category, all serial numbers.

(d) Subject

Joint Aircraft Service Component (JASC) Code: 6700, Rotorcraft Flight Control

(e) Unsafe Condition

This AD was prompted by reports of abnormal play on the collective torque tube on two Model AW119 MKII helicopters. The FAA is issuing this AD to address abnormal play on the collective torque tube, which could result in reduced control of the helicopter, resulting in a forced landing and consequent damage to the helicopter and injury to occupants.

(f) Compliance

Comply with this AD within the compliance times specified, unless already done.

(g) Requirements

Except as specified in paragraph (h) of this AD: Comply with all required actions and compliance times specified in, and in accordance with, European Union Aviation Safety Agency (EASA) AD 2021-0096, dated March 31, 2021 (EASA AD 2021-0096).

(h) Exceptions to EASA AD 2021-0096

(1) Where EASA AD 2021-0096 refers to flight hours (FH), this AD requires using hours time-in-service (TIS).

(2) Where EASA AD 2021-0096 refers to its effective date, this AD requires using the effective date of this AD.

(3) Where paragraphs (1) and (2) of EASA AD 2021-0096 specify the compliance times for Group 1 helicopters to inspect the affected part, this AD requires an initial inspection within 50 hours TIS after the effective date of this AD, and thereafter at intervals not to exceed 100 hours TIS.

(4) Where paragraph (5) of EASA AD 2021-0096 specifies, for Group 1 helicopters, replacement of an affected part with a serviceable part “within 36 months after April 3, 2019 [the effective date of EASA AD 2019-0057],” for this AD, that replacement must be done within 24 months after the effective date of this AD.

(5) Where the service information referenced in EASA AD 2021-0096 specifies to return a torque tube assembly to the manufacturer, this AD does not include that requirement.

(6) Where the service information referenced in EASA AD 2021-0096 specifies to contact the manufacturer “in case of doubt” regarding the batch number on a torque tube assembly, determining the batch number is required by this AD but contacting the manufacturer is not required.

(7) The “Remarks” section of EASA AD 2021-0096 does not apply to this AD.

(i) No Reporting Requirement

Although the service information referenced in EASA AD 2021-0096 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Related Information

(1) For EASA AD 2021-0096, contact EASA, Konrad-Adenauer-Ufer 3, 50668 Cologne, Germany; telephone +49 221 8999 000; email ADs@easa.europa.eu; internet www.easa.europa.eu. You may view this material at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-0572.

(2) For more information about this AD, contact Andrea Jimenez, Aerospace Engineer, COS Program Management Section, Operational Safety Branch, Compliance & Airworthiness Division, FAA, 1600 Stewart Ave., Mail Stop: Room 410, Westbury, NY 11590; telephone (516) 228-7330; email andrea.jimenez@faa.gov.

Issued on July 13, 2021.
Lance T. Gant, Director,
Compliance & Airworthiness Division, Aircraft Certification Service.

[FR Doc. 2021-15299 Filed 7-19-21; 8:45 am]

BILLING CODE 4910-13-P